DEPARTMENT OF ENERGY

Federal Energy Regulatory Commission

[Project No. 2153-066]

United Water Conservation District; Notice of Intent To Prepare an Environmental Assessment

On May 26, 2020, as supplemented on September 7, 2021, February 2, 2022, September 8, 2022, and January 3, 2024, United Water Conservation District (UWCD) filed a non-capacity amendment application for the Santa Felicia Project No. 2153 (project). The project is located on Piru Creek in Ventura County, California. The project occupies federal lands administered by the U.S. Forest Service.

The purpose of the amendment application is to implement the Santa Felicia Dam Safety Improvement Project. The Dam Safety Project proposes to replace the existing outlet works and modify the existing spillway and dam to address the potential for failure under seismic loading conditions and increase the conveyance capacity to sufficiently pass the inflow design flood. On June 1, 2020, the Commission issued a public notice of UWCD's request for a license amendment soliciting comments, motions to intervene, and protests. No comments, motions to intervene, or protests were received.

This notice identifies Commission staff's intention to prepare an environmental assessment (EA) for the project and the planned schedule for the completion of the environmental review. The target date for staff to issue the EA is July 2024.¹ Revisions to the schedule may be made as appropriate. The EA will be issued and made available for review by all interested parties and all comments filed on the EA will be analyzed by staff and considered in the Commission's final decision on the proceeding.

¹ 42 U.S.C. 4336a(g)(1)(B) requires lead federal agencies to complete EAs within 1 year of the agency's decision to prepare an EA. This notice establishes the Commission's intent to prepare an EA for the project; therefore, the EA must be issued within 1 year of the issuance date of this notice.

With this notice, the Commission is inviting federal, state, local, and Tribal agencies with jurisdiction and/or special expertise with respect to environmental issues affected by the proposal to cooperate in the preparation of the EA planned to be issued July 2024. Agencies wishing to cooperate, or further discuss the benefits, responsibilities, and obligations of the cooperating agency role, should contact staff listed at the bottom of this notice by April 18, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members and others to access publicly available information and navigate Commission processes. For public inquiries and assistance with making filings such as interventions, comments, or requests for rehearing, the public is encouraged to contact OPP at (202) 502-6595 or OPP@ferc.gov.

Any questions regarding this notice may be directed to David Rudisail at (202) 502-6376 or David.rudisail@ferc.gov.

Dated: March 28, 2024.
Debbie-Anne A. Reese,
Acting Secretary.

[FR Doc. 2024-07045 Filed 4-2-24; 8:45 am]

BILLING CODE 6717-01-P